DEPARTMENT OF ENERGY

Office of Science Financial Assistance Program Notice 02-27: Research and Development for the Rare Isotope Accelerator; Correction

AGENCY: Department of Energy (DOE).

ACTION: Notice inviting grant applications; correction.

SUMMARY: The Department of Energy published a document in the Federal Register of August 8, 2002, announcing interest in receiving applications for Research and Development (R&D) projects directed at the proposed Rare Isotope Accelerator (RIA). The document contained incorrect addresses.

FOR FURTHER INFORMATION CONTACT: Dr. Eugene A. Henry, (301) 903-6093.

Correction

In the Federal Register of August 8, 2002, in FR Doc. 02-20064, on page 51550, please make the following corrections:

On page 51550, under the heading ADDRESSES, in the second paragraph, the addresses to be used are:

If you are unable to submit the application through the IIPS, formal applications may be sent to: U.S. Department of Energy, Office of Science, Grants and Contracts Division, SC-64/Germantown Building, 1000 Independence Avenue, SW., Washington, DC 20585-1290, ATTN: Program Notice 02-27.

When submitting applications by U.S. Postal Service Express Mail, any commercial mail delivery service, or when hand carried by the applicant, the following address must be used: U.S. Department of Energy, Office of Science, Grants and Contracts Division, SC-64, 19901 Germantown Road, Germantown, MD 20874-1290, ATTN: Program Notice 02-27.

Also on page 51550, under the heading FOR FURTHER INFORMATION CONTACT, the address to be used is:

Dr. Eugene A. Henry, Nuclear Physics Division, Office of High Energy and Nuclear Physics, SC-23/Germantown Building, Office of Science, U.S. Department of Energy, 1000 Independence Avenue, SW., Washington, DC 20585-1290; telephone: (301) 903-6093; facsimile: (301) 903-3833; e-mail: gene.henry@science.doe.gov. The full text of the Program Notice 02-27 is available via the World Wide Web using the following Web site address: http://www.sc.doe.gov/production/grants/grants.html.

Issued in Washington, DC, on August 9, 2002.
Ralph H. De Lorenzo,
Acting Associate Director of Science for Resource Management.

[FR Doc. 02-20706 Filed 8-14-02; 8:45 am]

BILLING CODE 6450-02-P